DEPARTMENT OF DEFENSE

Department of the Navy

[Docket ID: USN-2022-HQ-0023]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 26, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the United States Naval Academy, 121 Blake Road, RM 311 Annapolis, MD 21402-1300, ATTN: Ms. Shannon Campbell, or call 410-293-1550.

SUPPLEMENTARY INFORMATION:

Title; Associated Form; and OMB Number: Naval Academy Candidate Application Package; USNA Forms 1110/7, 5710/1, 5710/2, 1531/3, 1110/5, 1110/21, 5500/31, 1531/11, 1531/16, 1531/178, and 1531/17; OMB Control Number 0703-0036.

Needs and Uses: This information requirement is used to determine the eligibility, competitive standing, and the scholastic and leadership potential of candidates for an appointment to the United States Naval Academy (USNA). Prior performance, including academic achievements, involvement in extracurricular activities and performance in leadership positions, has been found to be an excellent predictor of success. Without this information, the Naval Academy's ability to recruit qualified candidates will be seriously impacted. An analysis of the information collected is made by the Admissions Board in order to gauge the qualifications of individual candidates. Respondents are applicants for admission to the USNA, persons interested in applying for admission to the USNA, school officials for those applicants, Chain of Command officials for active duty applicants, person's providing recommendations for applicants, Blue and Gold Officers, Embassy or Naval Attachés for international applicants from other countries, and local law enforcement officials.

Affected Public: Individuals or households.

Annual Burden Hours: 135,484.

Number of Respondents: 114,188.

Responses per Respondent: 1.

Annual Responses: 114,188.

Average Burden per Response: 71.19 minutes.

Frequency: As required.

Dated: July 20, 2022.
Aaron T. Siegel,
Alternate OSD Federal Register Liaison Officer, Department of Defense.

[FR Doc. 2022-15950 Filed 7-25-22; 8:45 am]

BILLING CODE 5001-06-P